NATIONAL CREDIT UNION ADMINISTRATION

Sunshine Act; Notice of Agency Meeting

TIME AND DATE: 10 a.m., Thursday, April 21, 2011.

PLACE: Board Room, 7th Floor, Room 7047, 1775 Duke Street (All visitors must use Diagonal Road Entrance), Alexandria, VA 22314-3428.

STATUS: Open.

Matters To Be Considered

1. Final Interpretive Ruling and Policy Statement 11-1, Guidelines for the Supervisory Review Committee.

2. Corporate Credit Union Service Organization Activity.

3. Final Rule—Part 704 of NCUA's Rules and Regulations, Corporate Credit Unions.

4. Insurance Fund Report.

RECESS: 11:15 a.m.

TIME AND DATE: 11:30 a.m., Thursday, April 21, 2011.

PLACE: Board Room, 7th Floor, Room 7047, 1775 Duke Street, Alexandria, VA 22314-3428.

STATUS: Closed.

Matters To Be Considered

1. Insurance Appeal. Closed pursuant to exemption (6).

2. Consideration of Supervisory Activities. Closed pursuant to some or all of the following: exemptions (8), (9)(A)(ii) and 9(B).

FOR FURTHER INFORMATION CONTACT: Mary Rupp, Secretary of the Board, Telephone: 703-518-6304.

Mary Rupp,
Board Secretary.

[FR Doc. 2011-9483 Filed 4-14-11; 4:15 pm]

BILLING CODE P